JAMES MADISON MEMORIAL FELLOWSHIP FOUNDATION

45 CFR Part 2400

Fellowship Program Requirements

AGENCY: James Madison Fellowship Foundation.

ACTION: Notice of proposed rulemaking.

SUMMARY: The following are proposed amendments to the regulations governing the annual competition for James Madison Fellowships and the obligations of James Madison Fellows. These amendments would update and replace certain provisions of the Foundation's existing regulations as implemented by the James Madison Memorial Fellowship Act of 1986. These revised regulations would govern the qualifications and applications of candidates for fellowships; the selection of Fellows by the Foundation; the graduate programs Fellows must pursue; the terms and conditions attached to awards; the Foundation's annual Summer Institute on the Constitution; and related requirements and expectations regarding fellowships.

DATES: Comments must be submitted on or before February 17, 2004.

ADDRESSES: Address all comments about these proposed regulations to James Madison Memorial Fellowship Foundation, 2000 K Street, NW., Suite 303, Washington, DC 20006-1809.

FOR FURTHER INFORMATION CONTACT: Lewis F. Larsen. Telephone: (202) 653-8700.

SUPPLEMENTARY INFORMATION: The reason for the proposed changes to the Foundation's regulations comes as a result of the Foundation's desire to clarify several of the rules and regulations that James Madison Fellows must observe when accepting their fellowships. Although many of the changes are minor insertions of words and punctuation, this document specifically expands the definition section to include further detailed definitions on Credit Hour Equivalent, Incomplete, Repayment, Satisfactory Progress, Stipend, Teaching Obligation, Termination and Withdrawal. The Foundation now encourages James Madison Fellows to choose a graduate program which does not include the writing of a thesis. Graduate programs for which Fellows may apply have been broadened to included political science. Finally, a section entitled “Teaching Obligation” was added to further clarify the obligation to teach, required by the Foundation once each fellow has earned a master's degree.

Regulatory Flexibility Act Certification

The President certifies that these regulations would not have a significant economic impact on a substantial number of small entities.

These regulations apply to individuals eligible to apply for fellowship assistance. Individuals are not included in the definition of “small entities” in the Regulatory Flexibility Act.

Paperwork Reduction Act of 1995

These proposed regulations do not contain any information collection requirements.

List of Subjects in 45 CFR Part 2400

Education, Fellowships.

Dated: December 10, 2003.
Paul A. Yost, Jr.,
President.

For the reasons set forth in the preamble and under authority of 20 U.S.C. 4501 et seq., Chapter XXIV, Title 45 of the Code of Federal Regulations is proposed to be amended by revising part 2400 as follows:

PART 2400—FELLOWSHIP PROGRAM REQUIREMENTS

1. The authority citation for part 2400 is revised to read as follows:

Authority: 20 U.S.C. 4501 et seq., unless otherwise noted.

2. Section 2400.3 is amended by revising paragraphs (a)(8) and (b)(8) to read as follows:

§ 2400.3 Eligibility.

* * * * *

(a) * * *

(8) Sign agreements that, after completing the education for which the fellowship is awarded, they will teach American history, American government, social studies, or political science full time in secondary schools for a period of not less than one year for each full year of study for which assistance was received, preferably in the State listed as their legal residence at the time of their fellowship award. For the purposes of this provision, a full academic year of study is considered by the Foundation to be 18 credit hours or 27 quarter hours. Fellows' teaching obligations will be figured at full academic years of study; and when Fellows have studies for partial academic years, those years will be rounded upward to the nearest one-half year to determine Fellows' total teaching obligations.

(b) * * *

(8) Sign an agreement that, after completing the education for which the fellowship is awarded, they will teach American history, American government, social studies, or political science full time in secondary schools for a period of not less than one year for each full academic year of study for which assistance was received, preferably in the State listed as their legal residence at the time of their fellowship award. Fellows' teaching obligations will be figured at full academic years of study; and when Fellows have studies for partial academic years, those years will be rounded upward to the nearest one-half year to determine Fellows' total teaching obligations.

3. Section 2400.4 is amended by revising the definitions of “Full-time study,” “State,” and “Stipend,” to read as follows:

§ 2400.4 Definitions.

* * * * *

Full-time study means study for an enrolled student who is carrying at least 9 credit hours a semester or its equivalent.

* * * * *

State means each of the 50 states, the District of Columbia, the Commonwealth of Puerto Rico, and, considered as a single entity, Guam, the United States Virgin Islands, American Samoa, and the Commonwealth of the Northern Mariana Islands.

Stipend means the amount paid by the Foundation to a Fellow or on his or her behalf for the allowable costs of graduate study which have been approved under the fellowship.

* * * * *

4. Section 2400.20 is revised to read as follows:

§ 2400.20 Preparation of application.

Applications, on forms mailed directly by the Foundation to those who request applications or downloaded from the Foundation's website, must be completed by all fellowship candidates in order that they be considered for an award.

5. Section 2400.30 is amended by adding a new paragraph (g) to read as follows:

§ 2400.30 Selection criteria.

* * * * *

(g) Content of the 600-word essay.

§ 2400.31 [Amended]

6. In § 2400.31, paragraph (b) is amended by removing the word “legally” and adding, in its place, the word “legal”; and paragraph (c) is amended by removing the words “An alternate will receive” and adding, in their place, “An alternate may, at the Foundation's discretion, receive”.

§ 2400.42 [Amended]

7. In § 2400.42, paragraph (b) is amended by removing the word “constitution” and adding, in its place, the word “Constitution”.

§ 2400.43 [Amended]

8. In § 2400.43, paragraph (c) is amended by removing the words “strongly encourages” and adding, in their place, the words “in general, requires”.

9. Section 2400.44 is amended by revising paragraph (a) to read as follows:

§ 2400.44 Commencement of graduate study.

(a) Fellows may commence study under their fellowships as early as the summer following the announcement of their award. Fellows are normally expected to commence study under their fellowships in the fall term of the academic year following the date on which their award is announced. However, as indicated in § 2400.61, they may seek to postpone the commencement of fellowship study for up to one year under extenuating circumstances.

* * * * *

§ 2400.46 [Amended]

10. Section 2400.46 is amended by removing the word “five” and adding, in its place, the word “three”.

11. Section 2400.47 is revised to read as follows:

§ 2400.47 Summer Institute's relationship to fellowship.

Each year, the Foundation normally offers during July a four-week graduate-level Institute on the principles, framing, ratification, and implementation of the United States Constitution at an accredited university in the Washington, DC area. The Institute is an integral part of each fellowship.

12. Section 2400.48 is revised to read as follows:

§ 2400.48 Fellows' participation in the Summer Institute.

Each fellow is required as part of his or her fellowship to attend the Institute (if it is offered), normally during the summer following the Fellow's commencement of graduate study under a fellowship.

§ 2400.50 [Amended]

13. Section 2400.50 is amended by removing “For their participation in the Institute, Fellows are paid” and adding, in its place, “At the Foundation's discretion, Fellows may be paid”.

§ 2400.53 [Amended]

14. Section 2400.53 is amended by adding a new sentence at the end to read “A waiver of the time limit may be given for full-time students who require more than 36 credit hours or 54 quarter hours to complete their approved degree.”

15. Section 2400.55 is amended by revising paragraphs (f) and (i) to read as follows:

§ 2400.55 Certification for stipend.

* * * * *

(f) The amount and nature of income from any other grants or awards;

* * * * *

(i) A full Plan of Study over the duration of the fellowship, including information on the contents of required constitutional courses. Senior Fellows must provide evidence of their continued full-time employment as teachers in grades 7-12.

16. Section 2400.56 is revised to read as follows:

§ 2400.56 Payment of stipend.

Payment for tuition, required fees, books, room, and board subject to the limitations in §§ 2400.52 through 2400.55 and §§ 2400.59 through 2400.60 will be paid via Electronic Funds Transfer to each Fellow at the beginning of each term of enrollment and upon the Fellow's submission of a completed Payment Request Form which includes the current University bulletin of cost information.

§ 2400.58 [Amended]

17. In § 2400.58, paragraph (a) is amended by removing the words “fewer than” and adding, in their place, the words “at least”; and paragraph (b) is amended by removing the words “the Foundation will seek to recover” and adding, in their place, the words “the Fellow must repay”.

§ 2400.60 [Amended]

18. In § 2400.60, paragraph (a) is amended by removing the words “unless they are credited to the minimum number of credits required for the degree” at the end of the paragraph.

§ 2400.61 [Amended]

19. Section 2400.61 is amended by adding a new sentence at the end to read “All postponements are given at the Foundation's discretion and will normally not extend for more than one year.”

20. Section 2400.63 is revised to read as follows:

§ 2400.63 Excluded graduate study.

James Madison Fellowships do not provide support for study toward doctoral degrees, for the degree of master of arts in public affairs or public administration. The Foundation may at its discretion, upon request of the Fellow, provide tuition only assistance toward teacher certification.

[FR Doc. 03-30945 Filed 12-15-03; 8:45 am]

BILLING CODE 6820-05-P